DEPARTMENT OF HEALTH AND HUMAN SERVICES

Health Resources and Services Administration

Notice of a Supplemental Award to the University of Arkansas System Telehealth Focused Rural Health Research Center

AGENCY: Health Resources and Services Administration (HRSA), Department of Health and Human Services (HHS).

ACTION: Notice.

SUMMARY: HRSA announces a supplemental award in the amount of $100,000 annually through fiscal year 2024. This funding will support the University of Arkansas Telehealth Focused Rural Health Research Center (TF RHRC), a current HRSA-funded cooperative agreement. The supplemental request is for the remaining period of performance of the current cooperative agreement, subject to the availability of funds and successful performance of the activities in a given budget year.

FOR FURTHER INFORMATION CONTACT: For further information regarding this request, please contact Nicole Hewitt, (nhewitt@hrsa.gov), (301) 443-3893.

SUPPLEMENTARY INFORMATION:

Intended Recipient of Award: University of Arkansas System.

Amount of Award Increase Non-Competitive Award: $100,000 annually.

Period of Supplemental Funding: 9/1/2021-08/31/2024.

CFDA Number: 93.155.

Authority: Section 711(b)(5) of the Social Security Act (42 U.S.C. 912(b)(5)).

Justification: The TF RHRC program is authorized by Section 711(b)(5) of the Social Security Act (42 U.S.C. 912(b)(5)), as amended. This program is within HRSA's Federal Office of Rural Health Policy's (FORHP) Office for the Advancement of Telehealth (OAT), which administers grants, cooperative agreements, and contracts to provide technical assistance and other activities as necessary to support activities related to improving health care in rural areas. Such activities include the evaluation of telehealth programs in rural and underserved areas.

Under the TF RHRC Program, one of the two research centers was selected to receive supplemental funding to evaluate all of OAT's programs. The University of Arkansas was awarded a cooperative agreement on September 1, 2020, to conduct evaluation-focused research and maintain a thorough and comprehensive evaluation of nationwide telehealth investments in rural areas and populations.

The University of Arkansas is presently in the first year of evaluating OAT's programs, and the current research is evaluating the impact of investments in telehealth services funded by the FORHP. In Year 1 of the grant, they have been working on evaluating OAT's Licensure and Portability Program and the Telehealth Resource Centers. All program evaluation research falls under the jurisdiction of the University of Arkansas.

Consistent with fiscal year 2021 Departmental appropriations language, HRSA's FORHP has funded telehealth research that impacts rural areas and underserved rural populations. In addition, per the Consolidated Appropriations Act, 2021 (Pub. L. 116-260), the HHS Secretary is required to develop a strategic plan to research and evaluate the evidence for such technology-enabled collaborative learning and capacity building models.¹

¹ Consolidated Appropriations Act, 2021. https://docs.house.gov/billsthisweek/20201221/BILLS-116HR133SA-RCP-116-68.pdf (pages 2102-2106).

As part of that directive, FORHP intends to work in consultation with the University of Arkansas who can evaluate the Telehealth Technology Enabled Learning Program (TTELP). TTELP connects specialists at academic medical centers with primary care providers in rural, frontier, and underserved populations providing evidence-based training and support to help them treat patients with complex conditions in their communities. TTELP is also tasked with developing appropriate methodologies to evaluate and identify outcomes associated with learning community model initiatives.

The proposed activities for the supplemental funding are within the scope of the University of Arkansas' current TF RHRC cooperative agreement. This funding will allow HRSA to demonstrate whether or not this congressionally mandated program was effective. The University of Arkansas will be asked to submit a Request for Information and include a work plan, budget and budget narrative for the funding increase that incorporates this new TTELP evaluation project.

The supplemental funds are being requested for the remaining years of the cooperative agreement, subject to the availability of funds. The supplemental funds will be awarded prior to the end of the current fiscal year. The cooperative agreement ends on August 31, 2024.

Grantee/organization name | Grant number | State | FY 2021 authorized funding level | FY 2021 estimated supplemental funding
University of Arkansas for Medical Sciences | U3GRH40001 | AR | $950,000 | $100,000

Grantee/organization name | Grant number | State | FY 2022 authorized funding level | FY 2022 estimated supplemental funding
University of Arkansas for Medical Sciences | U3GRH40001 | AR | $950,000 | $100,000

Grantee/organization name | Grant number | State | FY 2023 authorized funding level | FY 2023 estimated supplemental funding
University of Arkansas for Medical Sciences | U3GRH40001 | AR | $950,000 | $100,000

Diana Espinosa,
Acting Administrator.

[FR Doc. 2021-16255 Filed 7-29-21; 8:45 am]

BILLING CODE 4165-15-P